DEPARTMENT OF COMMERCE

National Oceanic and Atmospheric Administration

RIN 0648-XU87

Marine Mammals; File No. 15126

AGENCY: National Marine Fisheries Service (NMFS), National Oceanic and Atmospheric Administration (NOAA), Commerce.

ACTION: Notice; issuance of permit.

SUMMARY: Notice is hereby given that NMFS National Marine Mammal Laboratory, (Responsible Party: Dr. John Bengtson, Director), Seattle, WA, has been issued a permit to conduct research on marine mammals.

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: On March 8, 2010, notice was published in the Federal Register (75 FR 10463) that a request for a permit to conduct research on ribbon seals (Phoca fasciata), spotted seals (P. largha), ringed seals (P. hispida), harbor seals (P. vitulina), and bearded seals (Erignathus barbatus) had been submitted by the above-named applicant. The requested permit has been issued under the authority of the Marine Mammal Protection Act of 1972, as amended (16 U.S.C. 1361 et seq.), and the regulations governing the taking and importing of marine mammals (50 CFR part 216).

The permit authorizes capture, sampling, tagging, and harassment of seals in the North Pacific Ocean, Bering Sea, Arctic Ocean and coastal regions of Alaska to investigate their foraging ecology, habitat requirements, vital rates, and effects of natural and anthropogenic factors on their populations. The permit expires on May 30, 2015.

In compliance with the National Environmental Policy Act of 1969 (42 U.S.C. 4321 et seq.), a final determination has been made that the activity proposed is categorically excluded from the requirement to prepare an environmental assessment or environmental impact statement.

Dated: May 10, 2010.
P. Michael Payne,
Chief, Permits, Conservation and Education Division, Office of Protected Resources, National Marine Fisheries Service.

[FR Doc. 2010-11608 Filed 5-13-10; 8:45 am]

BILLING CODE 3510-22-S